DEPARTMENT OF THE TREASURY

Internal Revenue Service

Agency Information Collection Activities: Comment Request on Trump Account Election(s)

AGENCY: Internal Revenue Service (IRS), Treasury.

ACTION: Notice of Information Collection; request for comments.

SUMMARY: In accordance with the Paperwork Reduction Act of 1995, the IRS is inviting comments on the information collection request outlined in this notice.

DATES: Written comments should be received on or before March 6, 2026 to be assured of consideration.

ADDRESSES: Direct all written comments and recommendations to Andrés Garcia, Internal Revenue Service, Room 6526, 1111 Constitution Avenue NW, Washington, DC 20224, or by email at pra.comments@irs.gov. Please include, “OMB Number: 1545-2336” in the subject line of the message.

FOR FURTHER INFORMATION CONTACT: View the latest drafts of the tax forms related to the information collection listed in this notice at https://www.irs.gov/draft-tax-forms. Requests for additional information or copies of this collection should be directed to Ronald J. Durbala, (202)-317-5746 or via email at RJoseph.Durbala@irs.gov.

SUPPLEMENTARY INFORMATION: The IRS, in accordance with the Paperwork Reduction Act of 1995 (PRA) (44 U.S.C. 3506(c)(2)(A)), provides the public and Federal agencies with an opportunity to comment on proposed, revised, and continuing collections of information. This helps the IRS assess the impact and minimize the burden of its information collection requirements. Comments submitted in response to this notice will be summarized and/or included in the request for OMB approval. All comments will become a matter of public record, and viewable on relevant websites. For this reason, please do not include in your comments information of a confidential nature, such as sensitive personal information.

Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Title: Trump Account Election(s).

OMB Number: 1545-2336.

Form Number(s): Form 4547 and Form 8879-TA.

Abstract: Section 70204 of the One Big Beautiful Bill, Public Law 119-21 established “Trump Accounts,” a new type of tax-advantaged savings account for children. These accounts are for children under 18. Form 4547 and Form 8879-TA will be used to make the elections to establish the accounts.

Current Actions: There is no change to the previously approved information collection.

Type of Review: Revision of currently approved collection.

Affected Public: Individuals or households.

Estimated Number of Respondents: 85,000,000.

Estimated Time per Respondent: 1 hr., 28 min.

Estimated Total Annual Burden Hours: 64,850,000.

Approved: December 29, 2025.
Andres Garcia Leon,
IRS Supervisory Tax Analyst.

[FR Doc. 2025-24257 Filed 1-2-26; 8:45 am]

BILLING CODE 4830-01-P